DEPARTMENT OF HOMELAND SECURITY

Federal Emergency Management Agency

44 CFR Part 67

[Docket ID FEMA-2011-0002; Internal Agency Docket No. FEMA-B-1174]

Proposed Flood Elevation Determinations

Correction

In proposed rule document 2011-2281 beginning on page 5769 in the issue of Wednesday, February 2, 2011 make the following correction:

§ 67.4 [Corrected]

On page 5772, in § 67.4, preceding the last table, add the heading “Doniphan County, Kansas, and Incorporated Areas”.

[FR Doc. C1-2011-2281 Filed 2-4-11; 8:45 am]

BILLING CODE 1505-01-D